DEPARTMENT OF LABOR

Employment and Training Administration

[TA-W-71,004]

Radisys Corporation, Including On-Site Leased Workers From Employment Trends, DB Professionals, Inc., and Prosource Network; Hillsboro, OR; Amended Certification Regarding Eligibility To Apply for Worker Adjustment Assistance

In accordance with Section 223 of the Trade Act of 1974, as amended (“Act”), 19 U.S.C. 2273, the Department of Labor issued a Certification of Eligibility to Apply for Worker Adjustment Assistance on August 14, 2009, applicable to workers of RadiSys Corporation, including on-site leased workers from Employment Trends, Hillsboro, Oregon. The notice was published in the Federal Register on September 22, 2009 (74 FR 48303).

At the request of the State Agency, the Department reviewed the certification for workers of the subject firm. The workers are engaged in the production of PCB boards, telecommunication systems and medical systems.

The company reports that workers leased from DB Professionals, Inc. and ProSource Network were employed on-site at the Hillsboro, Oregon location of RadiSys Corporation. The Department has determined that these workers were sufficiently under the control of the subject firm to be considered leased workers.

Based on these findings, the Department is amending this certification to include workers leased from DB Professionals, Inc. and ProSource Network working on-site at the Hillsboro, Oregon location of RadiSys Corporation.

The amended notice applicable to TA-W-71,004 is hereby issued as follows:

All workers of RadiSys Corporation, including on-site leased workers from Employment Trends, DB Professionals, Inc., and ProSource Network, Hillsboro, Oregon, who became totally or partially separated from employment on or after June 1, 2008, through August 14, 2011, and all workers in the group threatened with total or partial separation from employment on date of certification through two years from the date of certification, are eligible to apply for adjustment assistance under Chapter 2 of Title II of the Trade Act of 1974, as amended.

Signed at Washington, DC, this 13th day of October 2009.
Richard Church,
Certifying Officer, Division of Trade Adjustment Assistance.

[FR Doc. E9-25790 Filed 10-26-09; 8:45 am]

BILLING CODE 4510-FN-P